FEDERAL ELECTION COMMISSION

[Notice 2017-10]

Filing Dates for the Alabama Senate Special Elections

AGENCY: Federal Election Commission.

ACTION: Notice of filing dates for special election.

SUMMARY: Alabama has scheduled special elections to fill the U.S. Senate seat formerly held by Attorney General Jeff Sessions. There are three possible special elections, but only two may be necessary.

• Primary Election: August 15, 2017.

• Possible Runoff Election: September 26, 2017. In the event that one candidate does not achieve a majority vote in his/her party's Special Primary Election, the top two vote-getters will participate in a Special Runoff Election.

• General Election: December 12, 2017.

FOR FURTHER INFORMATION CONTACT: Ms. Elizabeth S. Kurland, Information Division, 999 E Street, NW., Washington, DC 20463; Telephone: (202) 694-1100; Toll Free (800) 424-9530.

SUPPLEMENTARY INFORMATION:

Principal Campaign Committees Special Primary Only

All principal campaign committees of candidates only participating in the Alabama Special Primary shall file a Pre-Primary Report on August 3, 2017. (See charts below for the closing date for the report).

Special Primary and General Without Runoff

If only two elections are held, all principal campaign committees of candidates participating in the Alabama Special Primary and Special General Elections shall file a Pre-Primary Report on August 3, 2017; a Pre-General Report on November 30, 2017; and a Post-General Report on January 21, 2018. (See charts below for the closing date for each report).

Special Primary and Runoff Elections

If three elections are held, all principal campaign committees of candidates only participating in the Alabama Special Primary and Special Runoff Elections shall file a Pre-Primary Report on August 3, 2017; and a Pre-Runoff Report on September 14, 2017. (See charts below for the closing date for each report.)

Special Primary, Runoff and General Elections

All principal campaign committees of candidates participating in the Alabama Special Primary, Special Runoff and Special General Elections shall file a Pre-Primary Report on August 3, 2017; a Pre-Runoff Report on September 14, 2017; a Pre-General Report on November 30, 2017; and a Post-General Report on January 21, 2018. (See charts below for the closing date for each report.)

Note that these reports are in addition to the campaign committee's regular quarterly filings. (See charts below for the closing date for each report).

Unauthorized Committees (PACs and Party Committees)

Political committees filing on a semi-annual basis in 2017 are subject to special election reporting if they make previously undisclosed contributions or expenditures in connection with the Alabama Special Primary, Special Runoff or Special General Elections by the close of books for the applicable report(s). (See charts below for the closing date for each report.)

Since disclosing financial activity from two different calendar years on one report would conflict with the calendar year aggregation requirements stated in the Commission's disclosure rules, unauthorized committees that trigger the filing of the Post-General Report will be required to file this report on two separate forms. One form to cover 2017 activity, labeled as the Year-End Report; and the other form to cover only 2018 activity, labeled as the Post-General Report. Both forms must be filed by January 21, 2018.

Committees filing monthly that make contributions or expenditures in connection with the Alabama Special Primary, Special Runoff or Special General Election will continue to file according to the monthly reporting schedule.

Additional disclosure information in connection with the Alabama Special Elections may be found on the FEC Web site at http://www.fec.gov/info/report_dates.shtml.

Disclosure of Lobbyist Bundling Activity

Principal campaign committees, party committees and Leadership PACs that are otherwise required to file reports in connection with the special elections must simultaneously file FEC Form 3L if they receive two or more bundled contributions from lobbyists/registrants or lobbyist/registrant PACs that aggregate in excess of $17,900 during the special election reporting periods. (See charts below for closing date of each period.) 11 CFR 104.22(a)(5)(v), (b).

b.

Calendar Of Reporting Dates For Alabama Special Election
Report | Close of books ¹ | Reg./cert. & overnight mailing deadline | Filing deadline
Campaign Committees Involved in Only the Special Primary (08/15/17) Must File:
Pre-Primary | 07/26/17 | 07/31/17 | 08/03/17
October Quarterly | 09/30/17 | 10/15/17 | ² 10/15/17
Year-End | 12/31/17 | 01/31/18 | 01/31/18
PACs and Party Committees not Filing Monthly Involved in Only the Special Primary (08/15/17) Must File:
Mid-Year | —WAIVED—
Pre-Primary | 07/26/17 | 07/31/17 | 08/03/17
Year-End | 12/31/17 | 01/31/18 | 01/31/18
If Only Two Elections are Held, Campaign Committees Involved in Both the Special Primary (08/15/17) and Special General (12/12/17) Must File:
Pre-Primary | 07/26/17 | 07/31/17 | 08/03/17
October Quarterly | 09/30/17 | 10/15/17 | ² 10/15/17
Pre-General | 11/22/17 | 11/27/17 | 11/30/17
Post-General | 01/01/18 | 01/21/18 | ² 01/21/18
Year-End | —WAIVED—
If Only Two Elections are Held, PACs and Party Committees not Filing Monthly Involved in Both the Special Primary (08/15/17) and Special General (12/12/17) Must File:
Mid-Year | —WAIVED—
Pre-Primary | 07/26/17 | 07/31/17 | 08/03/17
Pre-General | 11/22/17 | 11/27/17 | 11/30/17
Post-General | 01/01/18 | 01/21/18 | ² 01/21/18
Year-End | —WAIVED—
If Only Two Elections are Held, Campaign Committees Involved in Only the Special General (12/12/17) Must File:
Pre-General | 11/22/17 | 11/27/17 | 11/30/17
Post-General | 01/01/18 | 01/21/18 | ² 01/21/18
Year-End | —WAIVED—
If Only Two Elections are Held, PACs and Party Committees not Filing Monthly Involved in Only the Special General (12/12/17) Must File:
Pre-General | 11/22/17 | 11/27/17 | 11/30/17
Post-General | 01/01/18 | 01/21/18 | ² 01/21/18
Year-End | —WAIVED—
If Three Elections are Held, Campaign Committees Involved in Only the Special Primary (08/15/17) and Special Runoff (09/26/17) Must File:
Pre-Primary | 07/26/17 | 07/31/17 | 08/03/17
Pre-Runoff | 09/06/17 | 09/11/17 | 09/14/17
October Quarterly | 09/30/17 | 10/15/17 | ² 10/15/17
Year-End | 12/31/17 | 01/31/18 | 01/31/18
If Three Elections are Held, PACs and Party Committees not Filing Monthly Involved in Only the Special Primary (08/15/17) and Special Runoff (09/26/17) Must File:
Mid-Year | —WAIVED—
Pre-Primary | 07/26/17 | 07/31/17 | 08/03/17
Pre-Runoff | 09/06/17 | 09/11/17 | 09/14/17
Year-End | 12/31/17 | 01/31/18 | 01/31/18
If Three Elections are Held, Campaign Committees not Filing Monthly Involved in Only the Special Runoff (09/26/17) Must File:
Pre-Runoff | 09/06/17 | 09/11/17 | 09/14/17
October Quarterly | 09/30/17 | 10/15/17 | ² 10/15/17
Year-End | 12/31/17 | 01/31/18 | 01/31/18
If Three Elections are Held, PACs and Party Committees not Filing Monthly Involved in Only the Special Runoff (09/26/17) Must File:
Pre-Runoff | 09/06/17 | 09/11/17 | 09/14/17
Year-End | 12/31/17 | 01/31/18 | 01/31/18
Campaign Committees Involved in the Special Primary (08/15/17), Special Runoff (09/26/17) and Special General (12/12/17) Must File:
Pre-Primary | 07/26/17 | 07/31/17 | 08/03/17
Pre-Runoff | 09/06/17 | 09/11/17 | 09/14/17
October Quarterly | 09/30/17 | 10/15/17 | ² 10/15/17
Pre-General | 11/22/17 | 11/27/17 | 11/30/17
Post-General | 01/01/18 | 01/21/18 | ² 01/21/18
Year-End | —WAIVED—
PACs and Party Committees not Filing Monthly Involved in the Special Primary (08/15/17), Special Runoff (09/26/17) and Special General (12/12/17) Must File:
Mid-Year | —WAIVED—
Pre-Primary | 07/26/17 | 07/31/17 | 08/03/17
Pre-Runoff | 09/06/17 | 09/11/17 | 09/14/17
Pre-General | 11/22/17 | 11/27/17 | 11/30/17
Post-General | 01/01/18 | 01/21/18 | ² 01/21/18
Year-End | —WAIVED—
If Three Elections are Held, Campaign Committees Involved in Only the Special General (12/12/17) Must File:
Pre-General | 11/22/17 | 11/27/17 | 11/30/17
Post-General | 01/01/18 | 01/21/18 | ² 01/21/18
Year-End | —WAIVED—
If Three Elections are Held, PACs and Party Committees not Filing Monthly Involved in Only the Special General (12/12/17) Must File:
Pre-General | 11/22/17 | 11/27/17 | 11/30/17
Post-General | 01/01/18 | 01/21/18 | ² 01/21/18
Year-End | —WAIVED—
¹ The reporting period always begins the day after the closing date of the last report filed. If the committee is new and has not previously filed a report, the first report must cover all activity that occurred before the committee registered as a political committee up through the close of books for the first report due.
² Notice that this filing deadline falls on a weekend or federal holiday. Filing deadlines are not extended when they fall on nonworking days. Accordingly, reports filed by methods other than registered, certified or overnight mail must be received by close of business on the last business day before the deadline.

Dated: April 26, 2017.
On behalf of the Commission,
Steven T. Walther,
Chairman, Federal Election Commission.

[FR Doc. 2017-10722 Filed 5-24-17; 8:45 am]

BILLING CODE 6715-01-P